ENVIRONMENTAL PROTECTION AGENCY

[FRL-9247-7]

Operating Industries, Inc., Superfund Site, Monterey Park, CA; Notice of Proposed CERCLA Administrative De Minimis Settlement

AGENCY: Environmental Protection Agency (EPA).

ACTION: Notice; request for comment.

SUMMARY: In accordance with Section 122(i)(1) of the Comprehensive Environmental Response, Compensation and Liability Act of 1980, as amended (CERCLA), 42 U.S.C. 9622(i) and Section 7003(d) of the Resource Conservation and Recovery Act, as amended (RCRA), 42 U.S.C. 6973, notice is hereby given of a proposed administrative settlement with 275 de minimis settling parties for recovery of response costs concerning the Operating Industries, Inc., Superfund Site in Monterey Park, California. The settlement is entered into pursuant to Section 122(g) of CERCLA, 42 U.S.C. 9622(g) and it requires the settling parties to pay $17,027,998 to the United States Environmental Protection Agency (Agency). The settlement includes a covenant not to sue the settling parties pursuant to Sections 106 or 107(a) of CERCLA, 42 U.S.C. 9607(a) or 9606, and Section 7003(d) of RCRA, 42 U.S.C. 6973. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 75 Hawthorne Street, San Francisco, CA 94105.

DATES: Pursuant to Section 122(i)(1) of CERCLA and Section 7003(d) of RCRA, EPA will receive written comments relating to this proposed settlement on or before February 7, 2011. Pursuant to Section 7003(d) of RCRA, commenters may request an opportunity for a public meeting in the affected area. If EPA receives a request for a public meeting within thirty (30) days following the publication of this Notice, EPA will hold a public meeting at a date and location to be determined.

ADDRESSES: The proposed settlement is available for public inspection at EPA Region IX, 75 Hawthorne Street, San Francisco, California. A copy of the proposed settlement may be obtained from Keith Olinger, EPA Region IX, 75 Hawthorne Street, SFD-7-5, San Francisco, CA 94105, telephone number 415-972-3125. Comments should reference the Operating Industries, Inc., Superfund Site in Monterey Park, California and EPA Docket No. 2010-04 and should be addressed to Keith Olinger at the above address.

FOR FURTHER INFORMATION CONTACT: Janet Magnuson, Assistant Regional Counsel (ORC-3), Office of Regional Counsel, U.S. EPA Region IX, 75 Hawthorne Street, San Francisco, CA 94105; phone: (415) 972-3887; fax: (415) 947-3570; e-mail: magnuson.janet@epa.gov

Dated: January 7, 2010.
Jane Diamond,
Director, Superfund Division, U.S. EPA, Region IX.

Parties to the Proposed Settlement: ABM Janitorial Services, Inc., as successor-in-interest to American Building Maintenance Company, Agrex, Inc., Agri-Chemical & Supply, Inc., Air System Components, Inc. (fka Lau Industries, Inc.) and Ruskin Company, Lau Division, Akzo Nobel Coatings, Inc. (as successor to Reliance Universal, Inc.), Al Asher & Sons Inc., Al Larson Boat Shop, Alcan Packaging Food and Tobacco Inc., Alhambra Valley Properties, Alladin Plastics, Inc., Allan Aircraft Supply Co., LLC, Allegiance Corporation, Allen Telecom, Inc., Angelica Corporation, Aramark Uniform & Career Apparel, LLC, Arrow Electronics, Inc., Associated Plating Company, Astro Pak Corporation, Authentic Specialty Foods, Inc., dba La Victoria Foods, Avalon Glass & Mirror Co., Avery Dennison Corporation, Aviall, Inc., Axis Petroleum Company, B-J Management, Inc., Baker Hughes Incorporated, Baker Hughes Oilfield Operations, Inc., BakerCorp, Baldor Electric Company, as successor by merger to Reliance Electric Company (fka Reliance Electric Industrial Company), Beazer East, Inc., Bell Industries, Inc., Beren Corporation, Beylik Drilling, Inc., Big Penny Car Wash General Partnership, Bimbo Bakeries USA, Inc., Bimbo Foods, Inc., successor-in-interest to George Weston Bakeries, Inc., Blount, Inc., successor-in-interest to Omark Industries, Inc., Bodycote Thermal Processing, Inc., Bragg Investment Company, Inc., Brea Olinda Unified School District, Bridgford Foods Corporation, Bristow Group Inc., Burmar Metal Finishing Corp., dba Barron Anodizing, Cackle Fresh Egg Farms, Inc., Califone International, Inc., California Amforge Corp., California Department of Transportation, Cargill, Incorporated, Carrier Corporation, Carrier Service, Inc., Casa De Cadillac, Cast-Rite International, Inc. and Cast-Rite Corporation, Castrol Industrial North America, Inc., Cenveo Corporation, Certance, LLC, Certified Caterers Corp., Chem Arrow Corporation International, City of Long Beach, City of Paramount, City of Santa Monica, Clean Harbors, Inc., and its operating subsidiaries, and in its capacity as indemnitor for Safety Kleen (Los Angeles), Inc., Clear Channel Outdoor, Inc., Closetmaid Corporation, Collins Food Service, Inc., ConAgra Grocery Products Company, LLC, ConocoPhillips Company, Continuous Coating Corporation, Coscol Petroleum Corporation, Cosho, Inc., successor of Barr, Inc., County Sanitation District No. 2 of Los Angeles County, Crowley Marine Services, Inc., Cunico Corporation, Cushman & Wakefield of California, Inc., Dal-Tile International, Inc., Dart Transportation Service, Del Monte Corporation, Dexter 1994, LLC, Dickies Industrial Services, Inc., DII Industries, LLC, Dilo, Inc., Dolores Canning Co. Inc., Dominguez Properties, Dowell Schlumberger, Inc., Downey Glass Co. Incorporated, Dyanco, Inc., Econolite Control Products, Inc., Ed Anglemyer & Sons, Inc., Ed Butts Ford, Inc., El Monte Plastics, Inc., El Paso Energy E.S.T. Company as Trustee for EPEC Oil Company Liquidating Trust, Elixir Industries, EPEC Polymers, Inc., Essex Chemical Corporation, Evans Tank Line, Inc., Exxon Mobil Corporation, First Student, Inc. and First Transit, Inc., as successors to Laidlaw Transit, Inc. and Laidlaw Transit Services, Inc., Food 4 Less of Southern California, Inc., Freeport-McMoran Corporation, Gannett Flagstaff Broadcasting, Inc., Gasket Manufacturing Co., GCG Corporation, General Steamship International, Ltd., Genlyte Thomas Group LLC, as successor-in-interest to Lightolier, Inc., Geo Drilling Fluids, Inc., George O. Ladner, Jr., Trustee, Trepanier Trust, Georgia-Pacific, LLC, on behalf of Unisource Worldwide, Inc., Gillespie Furniture Co., Glendale Adventist Medical Center, Goodrich Corporation, Goulds Pumps, Inc., Grand-Way Fabri-Graphics Inc., Grayson Service, Inc., H.B. Fuller Company, Hacienda Golf Club, Handy & Harman, Hanson Aggregates LLC, fka Hanson Aggregates West, Inc., Harbour Auto Spa, Haskel Hall, Inc., Helium Leak Testing, Inc., Hexcel Corporation, Hexion Specialty Chemical Co., Inc., fka Borden, Inc., Hillcrest Beverly Oil Corporation, Hollingsead International, Inc., Home Furnishing Acquisition Corporation, as successor to Hoyne Industries, Inc., Hood Corporation, Hosokawa Micron International Inc., Host Hotels & Resorts, Inc., Howard Supply Company, Hugh J. Resins, Inc., IMO Industries, Inc., ITT Industries, Inc., nka ITT Corporation, J. C. Garet Inc., J. Colavin & Son, Inc., Jacob Stern & Sons, Inc., Jas. D. Easton, Inc., John W. Potter, Inc., Joslyn Manufacturing Company, LLC, Kao Brands Company, Kellogg Brown & Root, Inc., Kenneth W. Jones and Coastal Drilling Company, Key Energy Services, Inc., Kruse and Son, Inc., L & N Uniform Supply, LLC, L-3 Services, Inc., La Cienega Partners Limited Partnership, Lakeside Car Wash, Latshaw Enterprises, Inc., Lennox Car Wash, Linde, LLC, Lonesome Dove Petroleum Co., Louisiana-Pacific Corporation, LSG Sky Chefs USA, Inc., as successor to Caterair International Corporation, Lynco Grinding Company, Inc., M & R Industries, Inc., Mac's Radiator Service, Manufacturers Service, Inc., Marco Manufacturing, Inc., Maruichi American Corp., Master Products Manufacturing Company, Inc., Master Protection Corporation, Matson Terminals, Inc., McGregor II, LLC, McKesson Corporation, Metal Improvement Company, LLC, Montebello Car Wash, Inc., Mortell Company, Morton International, LLC, successor-in-interest to Morton International, Inc., MPC Industrial Products, Inc., by Paul Queyrel, President, National Plant Services, Inc., Nellcor Puritan Bennett, LLC, Nestle Waters North America Inc. for Arrowhead Drinking Water Co., New Bristol Farms, Inc., Northrop Grumman Guidance and Electronics Company, Inc., Northrop Grumman Systems Corporation (successor to Lucas Western), O'Donnell Oil Company, nka O'Donnell Oil, LLC, Olin Corporation, Oltmans Construction Co., Optical Coating Laboratory, Inc., Orange County Water District, Pacific Bell Telephone Company, Pacific Towboat & Salvage Co., Pactiv Corporation/A&E Plastics, Inc., Pagengruppen AB, Palisades Gas and Wash, Inc., Palmcrest North Convalescent Hospital, Paramount Interests, Inc., Parker-Hannifin Corporation, as indemnitor for Steel Forming Inc. dba Commercial Metal Forming, fka Orange County Metal Works aka Orange County Machine Works, PCC Technical Industries, Inc., Penske Truck Leasing Co., L.P., Pentrate Metal Processing, Pioneer Natural Resources Company, PolyOne Corporation, Port of Long Beach, Long Beach Harbor Department, Presbyterian Intercommunity Hospital, Inc., Pro-Line Corp.

Quemetco, Inc., R.H.S. Carpet Mill, Inc., R.R. Donnelley & Sons Company, Rangers Die Casting Co., Ray's Car Wash, Raytheon Company, Republic Services, Inc. (two generators), Ringsby Truck Lines, Inc., Riviera Rolls Royce, Robert Ruehman, Inc., Royalweve Carpet Mills, Inc. and Norman A. Subotky, San Gabriel Valley Water Company, Sanitek Products, Inc., Santa Fe Braun, Inc., Scope Products, Inc., Scott Technologies, Inc., Seattle Systems, Inc. and Trulife, Inc., Shepherd Financial Services, LLC, Shuttle Bus Leasing, Siemens Water Technologies Corp., Sika Corporation, Southern California Drum Co., Southwest Trails, Spectrolab, Inc., SSA Marine, Inc., Standridge Granite Corporation, Standun, Inc., Sullair Corporation, Sunkist Growers, Inc., Sunset Pipeline and Terminalling, Inc., SVG, Inc., SWECO/Emerson Electric Co., TCI Pacific Communications Inc., TDY Industries, Inc., Teberg Oil Company, Texaco, Inc., The Boeing Company, The Dow Chemical Company, The Goodyear Tire & Rubber Company, The Hearst Corporation, The Nehms Company, Inc., The Valspar Corporation, The Wackeen Family Trust, as the distributee of the assets of Ronald Moran Cadillac, Inc., a dissolved California Corporation, Thomas & Betts Corporation, Thrifty Payless Inc., successor to Thrifty Corporation, Toko Line (U. S. A.), Ltd., Torrance Car Wash, Tri-J Metal Heat Treating Co., TRW Automotive, Inc., Tube City IMS Corporation, Tulip Corporation, Tyco Healthcare Group, LP, Union Development Financial, Inc., Union Pacific Railroad Company, Unisys Corporation, United Drill Bushing Corporation, United Rentals, Inc., United States Steel Corporation and its subsidiaries, Universal City Studios, LLLP, a Delaware limited liability limited partnership (fka Universal City Studios LP, Universal City Studios LLC, and Universal City Studios, Inc., and Universal Studios, Inc.), URS Corporation, Valero Energy Corporation for and on behalf of its subsidiaries and affiliated companies, Valley Metal Treating, Inc., Valley Presbyterian Hospital, Venture Shipping (Managers) Ltd., Virco Mfg. Corporation, Vista Paint Corp., Vista-Kraft, Inc., Wash Multifamily Laundry Systems, LLC, Waterman Supply Company, Inc., Wei-Chuan USA, Inc., West Chemical Products, Inc./Penetone Corp., Western Methods Machinery Corporation, Western Waste Industries, Williams Production RMT Company, Wilsey Bennett, Inc., Wilsonart International, Inc., Wolf Tank Lines, Inc., Young's Market Company, LLC, Younger Mfg. Co., Your Man Tours, Inc., Zeneca Inc., as successor-in-interest to Stuart Pharmaceutical Co.

[FR Doc. 2010-33283 Filed 1-6-11; 8:45 am]

BILLING CODE 6560-50-P